DEPARTMENT OF TRANSPORTATION

National Highway Transportation Safety Administration

[Docket No. DOT-NHTSA-2013-0142]

Request for Comments on a New Information Collection

AGENCY: National Highway Transportation Safety Administration (NHTSA), Department of Transportation (DOT).

ACTION: Notice and request for comments.

SUMMARY: In compliance with the Paperwork Reduction Act of 1995 (44 U.S.C. 3501 et seq.), this notice announces that the Information Collection Request (ICR) abstracted below is being forwarded to the Office of Management and Budget (OMB) for review and comments. A Federal Register Notice with a 60-day comment period soliciting comments on the following information collection was published on January 22, 2014 (79 FR 3662).

DATES: Comments must be submitted on or before May 14, 2014.

FOR FURTHER INFORMATION CONTACT: Joshua Fikentscher, Office of Vehicle Safety Compliance (NVS-120), National Highway Traffic Safety Administration, West Building—4th Floor—Room W43-467, 1200 New Jersey Avenue SE., Washington, DC 20590. Mr. Fikentscher's phone number is (202) 366-1688.

Please identify the relevant collection of information by referring to its OMB Control Number.

SUPPLEMENTARY INFORMATION:

OMB Control Number: 2127-0052.

Title: Brake Hose Manufacturers Identification.

Form Numbers: None.

Type of Review: Extension of a currently approved information collection.

Background: 49 U.S.C. 30101 et seq., as amended (“the Safety Act”), authorizes NHTSA to issue Federal Motor Vehicle Safety Standards (FMVSS). The Safety Act mandates that in issuing any Federal motor vehicle safety standards, the agency is to consider whether the standard is reasonable and appropriate for the particular type of motor vehicle or item of motor vehicle equipment for which it is prescribed. Using this authority, FMVSS No. 106, Brake Hoses, was issued. This standard specifies labeling and performance requirements which apply to all manufacturers of brake hoses and brake hose end fittings, and to those who assemble brake hoses. Prior to assembling or selling brake hoses, these entities must register their identification marks with NHTSA to comply with the labeling requirements of this standard. In accordance with the Paperwork Reduction Act, the agency must obtain OMB approval to continue collecting labeling information. Currently, there are 1,944 manufacturers of brake hoses and end fittings, and brake hose assemblers, registered with NHTSA. However, only approximately 20 respondents annually request to have their symbol added to or removed from the NHTSA database. To comply with this standard, each brake hose manufacturer or assembler must contact NHTSA and state that they want to be added to or removed from the NHTSA database of registered brake hose manufacturers. This action is usually initiated by the manufacturer with a brief written request via U.S. mail, facsimile, an email message, or a telephone call. Currently, a majority of the requests are received via U.S. mail and the follow-up paperwork is conducted via facsimile, U.S. mail, or electronic mail. The estimated cost for complying with this regulation is $100 per hour. Therefore, the total annual cost is estimated to be $3,000 (time burden of 30 hours × $100 (cost per hour).

Respondents: Business or other for profit.

Number of Respondents: 20.

Number of Responses: 20.

Total Annual Burden: 30 hours.

ADDRESSES: Send comments regarding the burden estimate, including suggestions for reducing the burden, to the Office of Management and Budget, Attention: Desk Officer for the Office of the Secretary of Transportation, 725 17th Street NW., Washington, DC 20503.

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. Chapter 35, as amended; and 49 CFR 1:48.

David Hines,
Director, Office of Crash Avoidance Standards.

[FR Doc. 2014-08228 Filed 4-11-14; 8:45 am]

BILLING CODE 4910-59-P